DEPARTMENT OF DEFENSE

Department of the Navy

[Docket ID: USN-2024-HQ-0018]

Proposed Collection; Comment Request

AGENCY: Department of the Navy, Department of Defense (DoD).

ACTION: 60-Day information collection notice.

SUMMARY: In compliance with the Paperwork Reduction Act of 1995, the United States Marine Corps announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 28, 2025.

ADDRESSES:

You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Headquarters Marine Corps Records, Reports, Directives, and Forms Management Section, 3000 Marine Corps, Pentagon Rm. 2B253, Mr. Mark Kazzi, (571) 256-8883.

SUPPLEMENTARY INFORMATION:

Title; Associated Form; and OMB No.: Non-appropriated Fund Human Resource Management System (NAF HRMS); NAVMC Form 12000/499; OMB Control No. 0712-0007.

Needs and Uses: The information collection is necessary for Marine Corps Community Service (MCCS) to successfully manage and administer an effective and efficient recruiting and hiring process. MCCS's use of innovative technologies in the Non-Appropriated Fund Human Resource Management System (NAF HRMS) enables MCCS to streamline the employment application process, reduce processing and recruiter response times, and decrease the need for applicant calls and inquiries; therefore, improving the applicant's experience. The information collection is also necessary to allow MCCS retirees receiving an annuity to request changes to their current NAF Group medical, dental, or life insurance plans; their NAF Group Retirement plan; and/or their beneficiary information. Retirees request these changes via NAVMC Form 12000/499.

Affected Public: Business or other for-profit; individuals or households.

Annual Burden Hours: 35,002.

Number of Respondents: 70,003.

Responses per Respondent: 1.

Annual Responses: 70,003.

Average Burden per Response: 30 minutes.

Frequency: On occasion.

Dated: December 18, 2024.
Stephanie J. Bost,
Alternate OSD Federal Register Liaison Officer, Department of Defense.

[FR Doc. 2024-30895 Filed 12-27-24; 8:45 am]

BILLING CODE 6001-FR-P